DEPARTMENT OF JUSTICE

Civil Rights Division

Agency Information Collection Activities, Proposed Collection; Comment Request

ACTION: Notice of Information Collection Under Review; Extension of currently approved information collection; Complaint Form, Coordination and Review Section, Civil Rights Division, Department of Justice.

The Department of Justice, Civil Rights Division has submitted the following information collection request for review and clearance in accordance with the Paperwork Reduction Act of 1995. Office of Management and Budget approval is being sought for the information collection listed below. This proposed information collection was previously published in the Federal Register on September 11, 2000, page 54861-54862, allowing for a 60-day public comment period.

The purpose of this notice is to allow an additional 30 days for public comment until January 8, 2001. This process is conducted in accordance with 5 CFR 1320.10. Written comments and/or suggestions regarding the item(s) contained in this notice, especially regarding the estimated public burden and associated response time, should be directed to the Office of Management and Budget, Office of Information and Regulatory Affairs, Attention: Department of Justice Desk Officer, Washington, DC 20503. Comments may also be submitted to the Department of Justice (DOJ), Justice Management Division, Information Management and Security Staff, Attention: Department Deputy Clearance Office, Suite 1220, 1331 Pennsylvania Avenue, NW, Washington, DC 20530.

Written comments and suggestions from the public and affected agencies concerning the proposed collection of information should address one or more of the following four points.

(1) Evaluate whether the proposed collection information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of Currently Approved Collection.

(2) Title of the Form/Collection: Complaint Form, Coordination and Review Section, Civil Rights Division, Department of Justice.

(3) Agency form number, if any, and the applicable component of the Department of Justice sponsoring the collection: No form number. Coordination and Review Section, Civil Rights Division, U.S. Department of Justice.

(4) Affected public who will be asked or required to respond, as well as a brief abstract:

Primary: Individuals or Households.

The information collection is used to find jurisdiction to investigate the alleged discrimination, to seek whether a referral is necessary, and to provide information needed to initiate investigation of the complaint. Respondents are individuals alleging discrimination.

(5) An estimate of the total number of respondents and the amount of time estimated for an average respondent to respond: 1560 responses per year; ½ hour per response. The information will be submitted by the respondent only once. Thus, there will be approximately 1560 total yearly responses at ½ hour per response.

(6) An estimate of the total public burden (in hours) associated with the collection: 780 annual burden hours.

If additional information is required, contact: Mrs. Brenda E. Dyer, Deputy Clearance Officer, United States Department of Justice, Information Management and Security Staff, Justice Management Division, Suite 1220, 1331 Pennsylvania Avenue, NW., Washington, DC 20530.

Dated: November 30, 2000.
Brenda E. Dyer,
Department Deputy Clearance Officer, Department of Justice.

[FR Doc. 00-31177 Filed 12-6-00; 8:45 am]

BILLING CODE 4410-13-M